DEPARTMENT OF TRANSPORTATION

Federal Aviation Administration

FAA Approval of Noise Compatibility Program; Rickenbacker International Airport, Columbus, OH

AGENCY: Federal Aviation Administration, DOT.

ACTION: Notice.

SUMMARY: The Federal Aviation Administration (FAA) announces its findings on the noise compatibility program submitted by Columbus Regional Airport authority under the provisions of 49 U.S.C. (the Aviation Safety and Noise Abatement Act, hereinafter referred to as “the Act”) and 14 CFR part 150. These findings are made in recognition of the description of Federal and nonfederal responsibilities in Senate Report No. 96-52 (1980). On January 25, 2007, the FAA determined that the noise exposure maps submitted by Columbus Regional Airport Authority under Part 150 were in compliance with applicable requirements. On July 9, 2007, the FAA approved the Rickenbacker International Airport noise compatibility program. All of the recommendations of the program were approved.

EFFECTIVE DATE: The effective date of the FAA's approval of the Rickenbacker International Airport noise compatibility program is July 9, 2007.

FOR FURTHER INFORMATION CONTACT: Ms. Katherine S. Jones, Community Planner, Detroit Airports District Office, Metro Airport Center, 11677 South Wayne Road, Suite 107, Romulus, Michigan, Phone (734) 229-2900. Documents reflecting this FAA action may be reviewed at this same location.

SUPPLEMENTARY INFORMATION: This notice announces that the FAA has given its overall approval to the noise compatibility program for Rickenbacker International Airport, effective July 9, 2007.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, State, or local law. Approval does not by itself constitute an FAA implementing action. A request for Federal acton or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Detroit Airports District Office in Romulus, Michigan.

Columbus Regional Airport Authority submitted to the FAA on December 21, 2006 the noise exposure maps, descriptions, and other documentation produced during the noise compatibility planning study conducted from 2005 through 2006. The Rickenbacker International Airport noise exposure maps were determined by FAA to be in compliance with applicable requirements on January 25, 2007. Notice of this determination was published in the Federal Register on February 6, 2007 (FR Doc. 07-507 Filed 2-5-07; 8:45 am).

The Rickenbacker International Airport study contains a proposed noise compatibility program comprised of actions designed for phased implementation by airport management and adjacent jurisdictions starting in 2007. It was requested that the FAA evaluate and approve this material as a noise compatibility program as described in section 47504 of the Act. The FAA began its review of the program on January 25, 2007 and was required by a provision of the Act to approve or disapprove the program within 180 days (other than the use of new or modified flight procedures for noise control). Failure to approve or disapprove such program within the 180-day period shall be deemed to be an approval of such program.

The submitted program contained thirteen (13) proposed actions for noise mitigation on and/or off the airport. The FAA completed its review and determined that the procedural and substantive requirements of the Act and FAR Part 150 have been satisfied. The overall program, therefore, was approved by the FAA effective July 9, 2007.

Outright approval was granted for all of the specific program elements. These elements were: Straight out departures of itinerant aircraft from Runway 23L/R until reaching 3,000 feet mean sea level before turning on course; Formalize civil noise abatement procedures which include: right turns to a 070-degree heading after departing to the northeast; and observing a preferential reverse flow runway use for civil jet aircraft; Formalize military noise abatement procedures, which include: right turns to a 070-degree heading after departing to the northeast; preferential southwest flow for touch-and-go operations; and observing preferential reverse flow use; Develop an Airport Land Use Management District (ALUMD) based on the most recent Future 60 Day-Night Average Sound Level (DNL) Noise Exposure Map/Noise Compatibility Program (NEM/NCP) noise contour, natural geographic and jurisdictional boundaries; Implement land use controls to discourage residential development and encourage airport compatible development within the ALUMD; Offer acquisition to eligible undeveloped properties within the 65-DNL noise contour of the Future (2011) NEM/NCP; For those undeveloped properties that are offered but unwilling to be acquired through LU-20, offer avigation easements to restrict the development of incompatible land uses within the 65-DNL noise contour of the Future (2011) NEM/NCP: Seek cooperation from the Board of Realtors to participate in a voluntary fair disclosure program for the property located within the ALUMD; Establish a Noise Abatement Committee; Establish/continue a noise complaint response program; Periodic review and update of the NEM and NCP; Develop a public information program to communicate information about the NCP; and Provide for updates/enhancement of the CRAA Airport Noise & Flight Track Monitoring System.

These determinations are set forth in detail in a Record of Approval signed by the Great Lakes Region Airports Division Manager on July 9, 2007. The Record of Approval, as well as other evaluation materials and the documents comprising the submittal, are available for review at the FAA office listed above at the administrative offices of the Rickenbacker International Airport, 7161 Second Street, Columbus, Ohio 43217 and Columbus Regional Airport Authority, Port Columbus International Airport, 4600 International Gateway, Columbus, Ohio. The Record of Approval also will be available on-line at http://www.faa.govairports_airtraffic/airports/environmental/airport_noise.

Issued in Romulus, Michigan, July 20, 2007.
Irene R. Porter,
Acting Manager, Detroit Airports District Office, Great Lakes Region.

[FR Doc. 07-4322 Filed 9-5-07; 8:45 am]

BILLING CODE 4910-13-M